DEPARTMENT OF THE TREASURY

Internal Revenue Service

26 CFR Part 1

[TD 9383]

RIN 1545-BH21

Guidance Under Section 1502; Amendment of Matching Rule for Certain Gains on Member Stock; Correction

AGENCY: Internal Revenue Service (IRS), Treasury.

ACTION: Final and temporary regulations; Correction.

SUMMARY: This document contains a correction to final and temporary regulations (TD 9383) that were published in the Federal Register on Friday, March 7, 2008 (73 FR 12265).

Concerning the treatment of certain intercompany gain with respect to consolidated group member stock. These amendments provide for the redetermination of an intercompany gain as excluded from gross income in certain member stock transactions. These regulations affect corporations filing consolidated returns.

DATES: This correction is effective April 3, 2008.

FOR FURTHER INFORMATION CONTACT: John F. Tarrant or Ross E. Poulsen, (202) 622-7790 (not a toll-free number).

SUPPLEMENTARY INFORMATION:

Background

The final and temporary regulations that are the subject of this document are under section 1502 of the Internal Revenue Code.

Need for Correction

As published, final and temporary regulations (TD 9383) contain an error that may prove to be misleading and is in need of clarification.

Correction of Publication

Accordingly, the publication of the final and temporary regulations (TD 9383), which were the subject of FR Doc. E8-4573, is corrected as follows:

On page 12266, column 1, in the preamble, under the paragraph heading “Background”, lines 3 through 5 from the bottom of the column, the language “extent “the Commissioner determines that treating S's intercompany item as excluded from gross income is consistent with the purposes of § 1.1502-13 and other provisions of the” is corrected to read “extent “[t]he Commissioner determines that treating S's intercompany item as excluded from gross income is consistent with the purposes of [§ 1.1502-13] and other provisions of the”.

LaNita Van Dyke,
Chief, Publications and Regulations Branch, Legal Processing Division, Associate Chief Counsel (Procedure and Administration).

[FR Doc. E8-6879 Filed 4-2-08; 8:45 am]

BILLING CODE 4830-01-P